DEPARTMENT OF AGRICULTURE

Forest Service

Lake Tahoe Basin Federal Advisory Committee

AGENCY: Forest Service, USDA.

ACTION: Notice of meeting.

SUMMARY: The Lake Tahoe Basin Federal Advisory Committee will hold a meeting tentatively on July 15, 2009 at the Sierra Nevada College, 999 Tahoe Boulevard, Incline Village, NV 89451. This Committee, established by the Secretary of Agriculture on December 15, 1998 (64 FR 2876), is chartered to provide advice to the Secretary on implementing the terms of the Federal Interagency Partnership on the Lake Tahoe Region and other matters raised by the Secretary.

DATES: The meeting will be held July 15, 2009, beginning at 9 a.m. and ending at 12 p.m.

ADDRESSES: The meeting will be held at Sierra Nevada College, 999 Tahoe Boulevard, Incline Village, NV 89451.

For Further Information or to Request an Accommodation (one week prior to meeting date) Contact: Linda Lind, Lake Tahoe Basin Management Unit, Forest Service, 35 College Drive, South Lake Tahoe, CA 96150, (530) 543-2787.

SUPPLEMENTARY INFORMATION: Items to be covered on the agenda include: (1) Lake Tahoe Southern Nevada Public Land Act (SNPLMA) Round 10 update; (2) Status and preparation for SNPLMA Round 11; and, (3) Public Comment. All Lake Tahoe Basin Federal Advisory Committee meetings are open to the public. Interested citizens are encouraged to attend at the above address. Issues may be brought to the attention of the Committee during the open public comment period at the meeting or by filing written statements with the secretary for the Committee before or after the meeting. Please refer any written comments to the Lake Tahoe Basin Management Unit at the contact address stated above.

Dated: June 23, 2009.
Cheva Heck,
Acting Forest Supervisor.

[FR Doc. E9-15393 Filed 6-30-09; 8:45 am]

BILLING CODE 3410-11-M